DEPARTMENT OF COMMERCE

International Trade Administration

[A-412-803]

Industrial Nitrocellulose From the United Kingdom; Final Results of Antidumping Duty Administrative Review

AGENCY: Import Administration, International Trade Administration, Department of Commerce.

SUMMARY: On April 11, 2001, the Department of Commerce (the Department) published the preliminary results of the administrative review of the antidumping duty order on industrial nitrocellulose (INC) from the United Kingdom (66 FR 18749). This review covers one manufacturer/exporter of the subject merchandise (Imperial Chemical Industries, PLC). The period of review (POR) is July 1, 1999, through June 30, 2000.

Based on our analysis of the comments received, we have made changes in the margin calculation. Therefore, the final results differ from the preliminary results. The final weighted-average dumping margin for the reviewed firm is listed below in the section entitled “Final Results of Review.”

EFFECTIVE DATE: August 6, 2001.

FOR FURTHER INFORMATION CONTACT: Nithya Nagarajan or Michele Mire, Office of AD/CVD Enforcement, Office 4, Group II, Import Administration, International Trade Administration, U.S. Department of Commerce, 14th Street and Constitution Avenue, NW, Washington, DC 20230; telephone (202) 482-5253 or (202) 482-4711, respectively.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department's regulations are to 19 CFR part 351 (2000).

Background

On April 11, 2001, the Department published in the Federal Register the preliminary results of the administrative review of the antidumping duty order on INC from the United Kingdom. See Notice of Preliminary Results of Antidumping Duty Administrative Review: Industrial Nitrocellulose from the United Kingdom, 66 FR 18749 (April 11, 2001).

In response to the Department's invitation to comment on the preliminary results of this review, Imperial Chemical Industries, PLC (ICI or respondent) filed its case brief on May 11, 2001. No other interested parties filed case or rebuttal briefs.

The Department has conducted this administrative review in accordance with section 751 of the Act.

Scope of Review

Imports covered by this review are shipments of INC from the United Kingdom. INC is a dry, white amorphous synthetic chemical with a nitrogen content between 10.8 and 12.2 percent, and is produced from the reaction of cellulose with nitric acid. INC is used as a film-former in coatings, lacquers, furniture finishes, and printing inks. The scope of this order does not include explosive grade nitrocellulose, which has a nitrogen content of greater than 12.2 percent.

INC is currently classified under Harmonized Tariff System (HTS) subheading 3912.20.00. While the HTS item number is provided for convenience and Customs purposes, the written description remains dispositive as to the scope of the product coverage.

Period of Review

The POR is July 1, 1999 to June 30, 2000.

Analysis of Comments Received

All issues raised in the case briefs by parties to this administrative review are addressed in the “Issues and Decision Memorandum” (Decision Memorandum) from Bernard T. Carreau, Deputy Assistant Secretary, Group II, Import Administration, to Faryar Shirzad, Assistant Secretary for Import Administration, dated July 20, 2001, which is hereby adopted by this notice. A list of the issues which parties have raised and to which we have responded, all of which are in the Decision Memorandum, is attached to this notice as an Appendix. Parties can find a complete discussion of all issues raised in this review and the corresponding recommendations in this public memorandum, which is on file in the Central Records Unit, room B-099, of the main Department building. In addition, a complete version of the Decision Memorandum can be accessed directly on the Web at http://ia.ita.doc.gov. The paper copy and electronic version of the Decision Memorandum are identical in content.

Changes Since the Preliminary Results

Based on our analysis of comments received, we have made certain changes in the margin calculation. These changes are discussed in the relevant sections of the Decision Memorandum.

Final Results of Review

We determine that the following weighted-average percentage margin exists for the period July 1, 1999 through June 30, 2000:

Manufacturer/Exporter | Percent margin
Imperial Chemical Industries, PLC | 3.44

Assessment

The Department shall determine, and the U.S. Customs Service (Customs) shall assess, antidumping duties on all appropriate entries. In accordance with 19 CFR 351.212(b)(1), we have calculated importer-specific assessment rates based on the ratio of the total amount of antidumping duties calculated for the importer-specific sales to the total entered value of the same sales. Where the importer-specific assessment rate is above de minimis, we will instruct Customs to assess duties on all entries of subject merchandise by that importer. The Department will issue appraisement instructions directly to Customs.

Cash Deposit Requirements

The following deposit requirements will be effective upon publication of this notice of final results of administrative review for all shipments of INC from the United Kingdom entered, or withdrawn from warehouse, for consumption on or after the date of publication, as provided by section 751(a)(1) of the Act: (1) The cash deposit rate for ICI will be the rate shown above; (2) for previously reviewed or investigated companies not covered in this review, the cash deposit rate will continue to be the company-specific rate published for the most recent period; (3) if the exporter is not a firm covered in this review, or the original less-than-fair-value (LTFV) investigation, but the manufacturer is, the cash deposit rate will be the rate established for the most recent period for the manufacturer of the merchandise; and (4) the cash deposit rate for all other manufacturers or exporters will be 11.13 percent, the “all-others” rate established in the LTFV investigation (55 FR 21058, May 22, 1990).

These deposit requirements, when imposed, shall remain in effect until publication of the final results of administrative review for a subsequent review period.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

We are issuing and publishing this determination and notice in accordance with sections 751(a)(1) and 777(i) of the Act.

Dated: July 20, 2001.
Faryar Shirzad,
Assistant Secretary for Import Administration.

Appendix—Issues in Decision Memorandum

Comment

1. Ministerial Errors

[FR Doc. 01-19620 Filed 8-3-01; 8:45 am]

BILLING CODE 3510-DS-P